DEPARTMENT OF THE INTERIOR

National Park Service

[NPS-WASO-NAGPRA-NPS0035723; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Onondaga County, NY, and from the vicinity of Seneca Lake, which lies within Schuyler, Seneca, Yates, Ontario Counties, NY.

DATES: Repatriation of the human remains and associated funerary objects in this notice may occur on or after May 30, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, one individual were removed from the Amber Site in Onondaga County, NY. These human remains were gifted to the RMSC by the Paleontological Research Institute in 1992. No known individual was identified. The five funerary objects are two pieces of hematite; two tube pipe fragments; and one piece of white clay.

Human remains representing, at minimum, one individual were removed from the Felix Site/Jack's Reef Site (Bwv 001) in Onondaga County, NY. These human remains were removed during an RMSC expedition in 1947. No known individual was identified. The two funerary objects are one chert projectile point and one Vinette rim sherd.

Human remains representing, at minimum, four individuals were removed from the Robinson Site (Syr 005; Syr 005-1) in Onondaga County, NY. These human remains were excavated by the RMSC in 1937 and 1938. No known individuals were identified. The six associated funerary objects are one beaver incisor engraver; one section of a clay pipe stem; three notched chert projectile points; and one quartzite scraper.

Human remains representing, at minimum, three individuals were removed from Smith's Island (Syr 007) in Onondaga County, NY. In 1942, the human remains of two individuals and 11 associated funerary objects were collected by W.A. Ritchie during an RMSC expedition. In May of 1947, the human remains of one individual and one combined lot of associated funerary objects were collected by C.A. Denman and acquired by the RMSC. No known individuals were identified. Of the 12 associated funerary objects, nine are present in the RMSC collections and three are currently missing. The nine present associated funerary objects are one chert projectile point; the faunal remains of two dogs; one granite pebble muller; one ceramic pipe bowl fragment; one side-notched projectile point base; one bone projectile point; one piece of carbonized wood; and one combined lot of tubular copper beads, a copper earring, discoidal shell beads, fragmentary conch shell pendants, and a shroud made from tree bark and animal hides. The three associated funerary objects currently missing are the faunal remains of one dog; one bone projectile point; and one lot of pottery sherds. The RMSC continues to look for the missing objects.

At an unknown date, human remains representing, at minimum, one individual were removed from the vicinity of Seneca Lake, which lies within Schuyler, Seneca, Yates, Ontario Counties, NY. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 10 individuals of Native American ancestry.

• The 25 objects described in this notice are reasonably believed to have been placed with or near individual human remains at the time of death or later as part of the death rite or ceremony.

• There is a relationship of shared group identity that can be reasonably traced between the human remains and associated funerary objects described in this notice and the Cayuga Nation; Oneida Indian Nation; Oneida Nation; Onondaga Nation; Sac & Fox Nation of Missouri in Kansas and Nebraska; Sac & Fox Nation, Oklahoma; Sac & Fox Tribe of the Mississippi in Iowa; Saint Regis Mohawk Tribe; Seneca Nation of Indians; Seneca-Cayuga Nation; Tonawanda Band of Seneca; and the Tuscarora Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 30, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: April 19, 2023.
Melanie O'Brien,
Manager, National NAGPRA Program.

[FR Doc. 2023-08890 Filed 4-26-23; 8:45 am]

BILLING CODE 4312-52-P